DEPARTMENT OF LABOR

Occupational Safety and Health Administration

[Docket No. NRTL1-2001]

TUV Product Services GmbH, Expansion of Recognition

AGENCY: Occupational Safety and Health Administration (OSHA), Labor.

ACTION: Notice.

SUMMARY: This notice announces the Agency's final decision on the application of TUV Product Services GmbH for expansion of its recognition as a Nationally Recognized Testing Laboratory under 29 CFR 1910.7. Also, eight standards are granted interim approval subject to review.

DATES: You may submit comments in response to this notice, or any request for extension of the time to comment, by (1) regular mail, (2) express or overnight delivery service, (3) hand delivery, (4) messenger service, or (5) FAX transmission (facsimile). Because of security-related problems there may be a significant delay in the receipt of comments by regular mail. Comments (or any request for extension of the time to comment) must be submitted by the following dates:

Regular mail and express delivery service: Your comments must be postmarked by May 7, 2003.

Hand delivery and messenger service: Your comments must be received in the OSHA Docket Office by May 7, 2003. OSHA Docket Office and Department of Labor hours of operation are 8:15 a.m. to 4:45 p.m.

Facsimile and electronic transmission: Your comments must be sent by May 7, 2003.

ADDRESSES: Regular mail, express delivery, hand-delivery, and messenger service: You must submit three copies of your comments and attachments to the OSHA Docket Office, Docket NRTL2-92, Room N-2625, U.S. Department of Labor, Occupational Safety and Health Administration, 200 Constitution Avenue, NW., Washington, DC, 20210. Please contact the OSHA Docket Office at (202) 693-2350 for information about security procedures concerning the delivery of materials by express delivery, hand delivery and messenger service.

Facsimile: If your comments, including any attachments, are 10 pages or fewer, you may fax them to the OSHA Docket Office at (202) 693-1648. You must include the docket number of this notice, Docket NRTL2-92, in your comments.

Internet access to comments and submissions: OSHA will place comments and submissions in response to this notice on the OSHA Web page www.osha.gov. Accordingly, OSHA cautions you about submitting information of a personal nature (e.g., social security number, date of birth). There may be a lag time between when comments and submissions are received and when they are placed on the Web page. Please contact the OSHA Docket Office at (202) 693-2350 for information about materials not available through the OSHA Web page and for assistance in using the Web page to locate docket submissions. Comments and submissions will also be available for inspection and copying at the OSHA Docket Office at the address above.

Extension of Comment Period: Submit requests for extensions concerning this notice to: Office of Technical Programs and Coordination Activities, NRTL Program, Occupational Safety and Health Administration, U.S. Department of Labor, Room N3653, 200 Constitution Avenue, NW., Washington, DC 20210. Or fax to (202) 693-1644.

EFFECTIVE DATE: This recognition becomes effective on April 22, 2003, and, unless modified in accordance with 29 CFR 1910.7, continues in effect while TUVPSG remains recognized by OSHA as an NRTL.

FOR FURTHER INFORMATION CONTACT: Sherrey Nicolas, Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Decision

The Occupational Safety and Health Administration (OSHA) hereby gives notice of the expansion of recognition of TUV Product Services GmbH (TUVPSG) as a Nationally Recognized Testing Laboratory (NRTL). TUVPSG's expansion covers the use of additional test standards. OSHA's current scope of recognition for TUVPSG may be found in the following informational Web page: http://www.osha-slc.gov/dts/otpca/nrtl/tuvpsg.html.

OSHA recognition of an NRTL signifies that the organization has met the legal requirements in § 1910.7 of title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on an application. These notices set forth the NRTL's scope of recognition or modifications of this scope.

TUVPSG submitted its application to expand its recognition to use 46 additional test standards on June 28, 2002 (see Exhibit 7), and submitted an amended application on August 1, 2002 (see Exhibit 7-1), which added 11 more test standards to its original request. In the preliminary notice, we inadvertently identified the August 1 amendment as the original application but omitted the additional standards. We have included them as explained below. The NRTL Program staff determined that 2 of the 46 test standards originally requested could not be included in the expansion because they are not “appropriate test standards,” within the meaning of 29 CFR 1910.7(c). The staff makes similar determinations in processing expansion requests from any NRTL. Therefore, OSHA is approving 44 of those test standards for the expansion, which are listed below. One of the test standards requested by TUVPSG, UL 3101-2-20, is listed below using its current designation, UL 61010A-2-020.

For purposes of the application, OSHA performed an onsite review of the NRTL in June 2002, in conjunction with OSHA's regular audit of TUVPSG. In a memo, dated July 31, 2002 (see Exhibit 8), the OSHA assessor recommended granting the expansion request. OSHA published the notice of its preliminary findings on the expansion request in the Federal Register on January 24, 2003 (68 FR 3564). The notice requested submission of any public comments by February 10, 2003. OSHA did not receive any comments pertaining to the application.

The previous notice published by OSHA for TUVPSG's recognition covered its initial recognition, which became effective on July 20, 2001 (66 FR 38032).

You may obtain or review copies of all public documents pertaining to the TUVPSG application by contacting the Docket Office, Occupational Safety and Health Administration, U.S. Department of Labor, 200 Constitution Avenue, NW., Room N2625, Washington, DC 20210. You should refer to Docket No. NRTL1-2001, the permanent record of public information on the TUVPSG recognition.

The current address of the facility (site) that OSHA recognizes for TUVPSG is: TUV Product Services GmbH, Ridlerstrasse 65, D-80339, Munich, Germany.

Interim Approval Subject to Review

As mentioned above, TUVPSG submitted an amendment to the expansion request to use 11 additional test standards. Three of the standards requested by TUVPSG were not “appropriate” because the standards developing organization (SDO) had withdrawn the standards. Therefore, OSHA is expanding the recognition of TUVPSG to include the 8 standards listed below, which require the same type of capabilities as other test standards approved for the expansion. This brings the total to 52 test standards approved for the expansion.

UL 298 Portable Electric Hand Lamps

UL 588 Christmas-Tree and decorative Lighting Outfits

UL 676 Underwater Lighting Fixtures

UL 1230 Amateur Movie Lights

UL 1573 Stage and Studio Lighting Units

UL 1574 Track Lighting Systems

UL 1598 Luminaries

UL 1786 Nightlights

Since these 8 standards were not included in the preliminary notice, the Agency will provide interested parties an opportunity to comment. Comments submitted by interested parties must be received no later than May 7, 2003. If we receive comments, OSHA will determine whether additional procedures are necessary.

Existing Condition

Currently, OSHA imposes a special condition on its recognition of TUVPSG. This condition is listed first under the “Conditions” section, which is the last section of this notice, and applies also to this expansion for additional test standards. As mentioned in previous notices, such a special condition applies solely to TUVPSG's NRTL operations, and it is in addition to any other condition that OSHA normally imposes in its recognition of any organization as an NRTL.

The condition makes reference to TUV America, Inc. (TUVAM), which is another NRTL organization recognized by OSHA.

Final Decision and Order

The NRTL Program staff has examined the applications, the assessor's report, and other pertinent information. Based upon this examination and the assessor's recommendation, OSHA finds that TUV Product Services GmbH has met the requirements of 29 CFR 1910.7 for expansion of its recognition to include the additional test standards subject to the limitation and conditions listed below. Pursuant to the authority in 29 CFR 1910.7, OSHA hereby expands the recognition of TUVPSG, subject to this limitation and these conditions.

Limitation

OSHA limits the expansion to testing and certification of products for demonstration of conformance to the following 52 test standards, and OSHA has determined the standards are “appropriate,” within the meaning of 29 CFR 1910.7(c).

UL 197 Commercial Electric Cooking Appliances

UL 250 Household Refrigerators and Freezers

UL 298 Portable Electric Hand Lamps

UL 429 Electrically Operated Valves

UL 474 Dehumidifiers

UL 484 Room Air Conditioners

UL 499 Electric Heating Appliances

UL 588 Christmas-Tree and decorative Lighting Outfits

UL 676 Underwater Lighting Fixtures

UL 749 Household Dishwashers

UL 859 Household Electric Personal Grooming Appliance

UL 873 Temperature-Indicating and -Regulating Equipment

UL 921 Commercial Electric Dishwashers

UL 923 Microwave Cooking Appliances

UL 935 Fluorescent-Lamp Ballasts

UL 982 Motor-Operated Household Food Preparing Machines

UL 998 Humidifiers

UL 1004 Electric Motors

UL 1005 Electric Flatirons

UL 1026 Electric Household Cooking and Food Serving Appliances

UL 1082 Household Electric Coffee Makers and Brewing-Type Appliances

UL 1083 Household Electric Skillets and Frying-Type Appliances

UL 1230 Amateur Movie Lights

UL 1278 Movable and Wall-or Ceiling-Hung Electric Room Heaters

UL 1310 Class 2 Power Units

UL 1411 Transformers and Motor Transformers for Use In Audio-, Radio-, and Television-Type Appliances

UL 1431 Personal Hygiene and Health Care Appliances

UL 1492 Audio-Video Products and Accessories

UL 1573 Stage and Studio Lighting Units

UL 1574 Track Lighting Systems

UL 1594 Sewing and Cutting Machines

UL 1598 Luminaries

UL 1647 Motor-Operated Massage and Exercise Machines

UL 1786 Nightlights

UL 1993 Self-Ballasted Lamps and Lamp Adapters

UL 2601-1 Medical Electrical Equipment, Part 1: General Requirements for Safety

UL 60335-1 Safety of Household and Similar Electrical Appliances, Part 1; General Requirements

UL 60335-2-8 Household and Similar Electrical Appliances, Part 2: Particular Requirements for Shavers, Hair Clippers, and Similar Appliances

UL 60335-2-34 Household and Similar Electrical Appliances, Part 2; Particular Requirements for Motor-Compressors

UL 60730-1A Automatic Electrical Controls for Household and Similar Use; Part 1: General Requirements

UL 60730-2-7 Automatic Electrical Controls for Household and Similar Use; Part 2: Particular Requirements for Timers and Time Switches

UL 60730-2-10A Automatic Electrical Controls for Household and Similar Use; Part 2: Particular Requirements for Motor Starting Relays

UL 60730-2-11A Automatic Electrical Controls for Household and Similar Use; Part 2: Particular Requirements for Energy Regulators

UL 60730-2-12A Automatic Electrical Controls for Household and Similar Use; Part 2: Particular Requirements for Electrically Operated Door Locks

UL 60730-2-13A Automatic Electrical Controls for Household and Similar Use; Part 2: Particular Requirements for Humidity Sensing Controls

UL 60730-2-14 Automatic Electrical Controls for Household and Similar Use; Part 2: Particular Requirements for Electric Actuators

UL 60730-2-16A Automatic Electrical Controls for Household and Similar Use; Part 2: Particular Requirements for Automatic Electrical Water Level Controls

UL 61010A-2-010 Electrical Equipment for Laboratory Use; Part 2: Particular Requirements for Laboratory Equipment for the Heating of Materials

UL 61010A-2-020 Electrical Equipment for Laboratory Use; Part 2: Particular Requirements for Laboratory Centrifuges

UL 61010A-2-041 Electrical Equipment for Laboratory Use; Part 2: Particular Requirements for Autoclaves Using Steam for the Treatment of Medical Materials and for Laboratory Processes

UL 61010A-2-051 Electrical Equipment for Laboratory Use; Part 2: Particular Requirements for Laboratory Equipment for Mixing and Stirring

UL 61010A-2-061 Electrical Equipment for Laboratory Use; Part 2: Laboratory Atomic Spectrometers with Thermal Atomization and Ionization

OSHA's recognition of TUVPSG, or any NRTL, for a particular test standard is limited to equipment or materials (i.e., products) for which OSHA standards require third party testing and certification before use in the workplace. Consequently, an NRTL's scope of recognition excludes any product(s) that fall within the scope of a test standard, but for which OSHA standards do not require NRTL testing and certification.

Many of the test standards listed above, are approved as American National Standards by the American National Standards Institute (ANSI). However, for convenience in compiling the list, we often use the designation of the standards developing organization (e.g., UL 1026) for the standard, as opposed to the ANSI designation (e.g., ANSI/UL 1026). Under our procedures, an NRTL recognized for an ANSI-approved test standard may use either the latest proprietary version of the test standard or the latest ANSI version of that standard, regardless of whether it is currently recognized for the proprietary or ANSI version. Contact “NSSN” (http://www.nssn.org), an organization partially sponsored by ANSI, to find out whether or not a test standard is currently ANSI-approved.

Conditions

TUVPSG must also abide by the following conditions of the recognition, in addition to those already required by 29 CFR 1910.7:

Only TUV America, Inc. (TUVAM), or TUV Product Services GmbH (TUVPSG) may authorize the U.S. registered certification mark currently owned by TUV America, Inc. TUVPSG may authorize the use of this mark only at the facility recognized by OSHA;

OSHA must be allowed access to TUVPSG's facility and records for purposes of ascertaining continuing compliance with the terms of its recognition and to investigate as OSHA deems necessary;

If TUVPSG has reason to doubt the efficacy of any test standard it is using under this program, it must promptly inform the test standard developing organization of this fact and provide that organization with appropriate relevant information upon which its concerns are based;

TUVPSG must not engage in or permit others to engage in any misrepresentation of the scope or conditions of its recognition. As part of this condition, TUVPSG agrees that it will allow no representation that it is either a recognized or an accredited Nationally Recognized Testing Laboratory (NRTL) without clearly indicating the specific equipment or material to which this recognition is tied, or that its recognition is limited to certain products;

TUVPSG must inform OSHA as soon as possible, in writing, of any change of ownership, facilities, or key personnel, and of any major changes in its operations as an NRTL, including details;

TUVPSG will meet all the terms of its recognition and will always comply with all OSHA policies pertaining to this recognition; and

TUVPSG will continue to meet the requirements for recognition in all areas where it has been recognized.

Signed in Washington, DC this 11th day of April, 2003.
John L. Henshaw,
Assistant Secretary.

[FR Doc. 03-9875 Filed 4-21-03; 8:45 am]

BILLING CODE 4510-26-P